DEPARTMENT OF COMMERCE

International Trade Administration

[A-533-840, A-549-822]

Certain Frozen Warmwater Shrimp From India and Thailand: Notice of Initiation of Antidumping Duty Administrative Reviews

AGENCY: Enforcement and Compliance, International Trade Administration, Department of Commerce.

SUMMARY: The Department of Commerce (the Department) received requests to conduct administrative reviews of the antidumping duty (AD) orders on certain frozen warmwater shrimp (shrimp) from India and Thailand for the period February 1, 2015 through January 31, 2016. The anniversary month of these orders is February. In accordance with the Department's regulations, we are initiating these administrative reviews.

DATES: Effective: April 7, 2016.

FOR FURTHER INFORMATION CONTACT: Blaine Wiltse at (202) 482-6345 (India) and Dennis McClure (202) 482-5973 (Thailand), AD/CVD Operations, Office II, Enforcement and Compliance, International Trade Administration, U.S. Department of Commerce, 14th Street and Constitution Avenue NW., Washington, DC 20230.

SUPPLEMENTARY INFORMATION:

Background

During the anniversary month of February 2016, the Department received timely requests, in accordance with 19 CFR 351.213(b), for administrative reviews of the AD orders on shrimp from India and Thailand from the Ad Hoc Shrimp Trade Action Committee (hereinafter, AHSTAC), the American Shrimp Processors Association (ASPA), and certain individual companies.

All deadlines for the submission of various types of information, certifications, or comments or actions by the Department discussed below refer to the number of calendar days from the applicable starting time.

Notice of No Sales

If a producer or exporter named in this notice of initiation had no exports, sales, or entries during the period of review (POR), it must notify the Department within 60 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination in the administrative review of the AD orders on shrimp from India and Thailand, the Department intends to select respondents based on U.S. Customs and Border Protection (CBP) data for U.S. imports during the POR. We intend to release the CBP data under Administrative Protective Order (APO) to all parties having an APO within seven days of publication of this initiation notice and to make our decision regarding respondent selection within 21 days of publication of this Federal Register notice. The Department invites comments regarding the CBP data and respondent selection within five days of placement of the CBP data on the record of the applicable review. Rebuttal comments will be due five days after submission of initial comments.

In general, the Department has found that determinations concerning whether particular companies should be “collapsed” (i.e., treated as a single entity for purposes of calculating antidumping duty rates) require a substantial amount of detailed information and analysis, which often require follow-up questions and analysis. Accordingly, the Department will not collapse companies at the respondent selection phase unless there has been a determination to collapse certain companies in a previous segment of these antidumping proceedings (i.e., investigation, administrative review, or changed circumstances review). For any company subject to these reviews, if the Department determined, or continued to treat, that company as collapsed with others, the Department will assume that such companies continue to operate in the same manner and will collapse them for respondent selection purposes. Parties are requested to (a) identify which companies subject to review previously were collapsed, and (b) provide a citation to the proceeding in which they were collapsed.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Requests for Reviews of Non-Shrimp Producers/Exporters

In the 2011-2012 administrative review of shrimp from Thailand, the Department found that Kosamut Frozen Foods Co., Ltd. (Kosamut) and Tanaya International Co., Ltd./Tanaya Intl (collectively, Tanaya) were neither exporters nor producers of the subject merchandise, as defined in 19 CFR 351.213(b) and 351.102(b)(29)(i). Accordingly, we rescinded the review for these companies, pursuant to 19 CFR 351.213(d)(3).² Therefore, despite the fact that ASPA again requested a review of these companies, based upon that determination, we are not initiating an administrative review with respect to Kosamut or Tanaya for the current POR absent specific information that the companies at issue are exporters or producers of the subject merchandise.

² See Certain Frozen Warmwater Shrimp From Thailand: Final Results of Antidumping Duty Administrative Review, Partial Rescission of Review, and Revocation of Order (in Part); 2011-2012, 78 FR 42497, 42498-42499 (July 16, 2013) (2011-2012 Thai Shrimp).

In the 2013-2014 administrative review of shrimp from Thailand, the Department did not initiate a review with respect to GSE Lining Technology Co., Ltd. because the company neither produced nor exported shrimp.³ Therefore, despite the fact that ASPA again requested a review of this company, we are not initiating an administrative review with respect to it for the current POR absent specific information that it is an exporter or producer of the subject merchandise.

³ See Certain Frozen Warmwater Shrimp From India and Thailand: Notice of Initiation of Antidumping Duty Administrative Reviews, 79 FR 18510 (April 2, 2014).

Initiation of Reviews

In accordance with 19 CFR 351.221(c)(1)(i), we are initiating administrative reviews of the antidumping duty orders on shrimp from India and Thailand. We intend to issue the final results of these reviews not later than February 28, 2017.

BILLING CODE 3510-DS-P

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to the administrative reviews included in this notice of initiation. Parties wishing to participate in either of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) other data or statements of facts; (iv) evidence placed on the record by the Department; and (v) evidence other than factual information described in (i) through (iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in these segments.

Any party submitting factual information in an antidumping duty proceeding must certify to the accuracy and completeness of that information.⁹¹ Parties are hereby reminded that revised certification requirements are in effect for company/government officials as well as their representatives. All segments of any antidumping duty proceedings initiated on or after August 16, 2013, should use the formats for the revised certifications provided at the end of the Final Rule.⁹² The Department intends to reject factual submissions in these administrative reviews if the submitting party does not comply with applicable revised certification requirements.

⁹¹ See section 782(b) of the Act.

⁹² See Certification of Factual Information To Import Administration During Antidumping and Countervailing Duty Proceedings, 78 FR 42678 (July 17, 2013) (Final Rule); see also the frequently asked questions regarding the Final Rule, available at: http://enforcement.trade.gov/tlei/notices/factual_info_final_rule_FAQ_07172013.pdf.

Revised Extension of Time Limits Regulation

On September 20, 2013, the Department modified its regulation concerning the extension of time limits for submissions in antidumping duty proceedings.⁹³ The modification clarifies that parties may request an extension of time limits before a time limit established under Part 351 expires, or as otherwise specified by the Secretary. In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) submissions containing rebuttal, clarification and correction filed pursuant to 19 CFR 351.301(c)(3)(iv); (3) comments concerning CBP data; and (4) quantity and value questionnaire responses. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the Final Rule, available at http://www.gpo.gov/fdsys/pkg/FR-2013-09-20/html/2013-22853.htm, prior to submitting factual information in these administrative reviews.

⁹³ See Extension of Time Limits: Final Rule, 78 FR 57790 (September 20, 2013).

These initiations and this notice are in accordance with section 751(a) of the Act and 19 CFR 351.221(c)(1)(i).

Dated: April 1, 2016.
Gary Taverman,
Associate Deputy Assistant Secretary for Antidumping and Countervailing Duty Operations.

[FR Doc. 2016-08007 Filed 4-6-16; 8:45 am]

BILLING CODE 3510-DS-C